SMALL BUSINESS ADMINISTRATION

[Disaster Declaration #15033 and #15034]

Georgia Disaster Number GA-00090

AGENCY: U.S. Small Business Administration.

ACTION: Amendment 1.

SUMMARY: This is an amendment of the Presidential declaration of a major disaster for the State of Georgia (FEMA-4297-DR), dated 01/26/2017.

Incident: Severe Storms, Tornadoes, Straight-line Winds, and Flooding.

Incident Period: 01/21/2017 through 01/22/2017.

DATES: Effective Date: 02/03/2017.

Physical Loan Application Deadline Date: 03/27/2017.

EIDL Loan Application Deadline Date: 10/26/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Georgia, dated 01/26/2017 is hereby amended to update the incident to Severe Storms, Tornadoes, Straight-line Winds, and Flooding and to include the following areas as adversely affected by the disaster:

Primary Counties: (Physical Damage and Economic Injury Loans): Thomas, Worth.

Contiguous Counties: (Economic Injury Loans Only):

Georgia: Grady.

Florida: Jefferson, Leon.

All other information in the original declaration remains unchanged.

(Catalog of Federal Domestic Assistance Number 59008)

James E. Rivera,
Associate Administrator for Disaster Assistance.

[FR Doc. 2017-02825 Filed 2-10-17; 8:45 am]

BILLING CODE 8025-01-P